DEPARTMENT OF THE TREASURY

Internal Revenue Service

26 CFR Part 1

[TD 9939]

RIN 1545-BP49

Qualified Transportation Fringe, Transportation and Commuting Expenses Under Section 274; Correction

AGENCY: Internal Revenue Service (IRS), Treasury.

ACTION: Final regulations; correction.

SUMMARY: This document contains corrections to the final regulations (Treasury Decision 9939), that were published in the Federal Register on Wednesday, December 16, 2020. The final regulations provide guidance regarding the elimination of the deduction for expenses related to certain transportation and commuting benefits provided by employers to their employees. The final regulations affect taxpayers who pay or incur such expenses.

DATES: These corrections are effective on April 23, 2021 and applicable to taxable years beginning on or after December 16, 2020.

FOR FURTHER INFORMATION CONTACT: Patrick Clinton of the Office of Associate Chief Counsel (Income Tax and Accounting), (202) 317-7005 (not a toll-free number).

SUPPLEMENTARY INFORMATION:

Background

The final regulations (TD 9939) that are the subject of this correction are issued under section 274 of the Internal Revenue Code.

Need for Correction

As published on December 16, 2020 (85 FR 81391), the final regulations (TD 9939) contain errors that need to be corrected.

Correction of Publication

Accordingly, the final regulations (TD 9939), that are the subject of FR Doc. 2020-27505, in the issue of December 16, 2020 (85 FR 81391), are corrected as follows:

1. On page 81402, first column, the eighth line from the bottom of the first full paragraph, the language “in 274(e)(2)” is corrected to read “in section 274(e)(2)”.

2. On page 81402, third column, under the heading “List of Subjects in 26 Part 1”, the language “Income Taxes, Reporting and recordkeeping requirements.” is corrected to read “Income taxes, Reporting and recordkeeping requirements.”.

Crystal Pemberton,
Senior Federal Register Liaison, Legal Processing Division, Associate Chief Counsel (Procedure and Administration).

[FR Doc. 2021-08392 Filed 4-22-21; 8:45 am]

BILLING CODE 4830-01-P